DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director of the Emergency Preparedness and Response Directorate has resolved any appeals resulting from this notification.

This final rule is issued in accordance with Section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987. Executive Order 12778, Civil Justice Reform. This rule meets the applicable standards of Section 2(b)(2) of Executive Order 12778.

List of Subjects in 44 CFR Part 67

Administrative practice and procedure, Flood insurance, Reporting and record keeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) Modified
IN | Indianapolis (City) Marion County (FEMA Docket No. P7663) | Berkshire Creek | At its confluence with Devon Creek Approximately 150 feet upstream of Marrison Place. | *746 *780
|  | Buffalo Creek | Just upstream of West County Line Road At East Stop 11 Road | *707 *754
|  | Devon Creek | Approximately 740 feet downstream of Millersville Road | *733
|  |  | Approximately 100 feet upstream of Laurel Falls Road | *814
|  | Little Buck Creek | Approximately 300 feet downstream of South Tibbs Avenue | *669
|  |  | Approximately 75 feet upstream of the furthest upstream crossing of East Edgewood Avenue | *844
Maps are available for inspection at 2142 City-County Building, 200 East Washington Street, Indianapolis, Indiana.
NE | Wakefield (City) Dixon and Wayne Counties (FEMA Docket No. P7663) | Logan Creek Dredge | Approximately 1.4 miles downstream of State Highway 35 Approximately 0.6 miles upstream of County Road 859 | ♢1,378 ♢1,389
|  | South Logan Creek | At confluence with Logan Creek Dredge Approximately 1.2 miles upstream of the confluence with Logan Creek Dredge | ♢1,387 ♢1,390
|  | Ponding areas west of State Highway 35 and north of Abandoned Railroad (4) | Entire shoreline | ♢1,382
|  | Ponding areas adjacent to State Highway 35 and north of Abandoned Railroad (4) | Entire shoreline | ♢1,380
|  | Ponding area east of State Highway 35 | Entire shoreline | ♢1,376
|  | Ponding area east of State Highway 35 and south of Abandoned Railroad | Entire shoreline | ♢1,378
Maps are available for inspection at 405 Main Street, Wakefield, Nebraska.
WI | Manitowoc (City Manitowoc County (FEMA Docket No. P7663) | Manitowoc River | At South 10th Street Approximately 2,550 feet downstream of Michigan Avenue | *585 *604
Maps are available for inspection at Manitowoc City Hall, 900 Quay Street Manitowoc, Wisconsin.

(Catalog of Federal Domestic Assistance No. 83.100, ``Floor Insurance.'')

Dated: May 16, 2005.
David I. Maurstad,
Acting Director, Mitigation Division, Emergency Preparedness and Response Directorate.

[FR Doc. 05-10303 Filed 5-23-05; 8:45 am]

BILLING CODE 9110-12-P